NUCLEAR REGULATORY COMMISSION

Advisory Committee on Nuclear Waste; Revised

The agenda for the 141st meeting of the Advisory Committee on Nuclear Waste (ACNW) scheduled for April 22-23, 2003, 11545 Rockville Pike, Rockville, Maryland, has been revised to include a presentation on the National Academy of Sciences Transportation Study in the Working Group Follow-On Session on Tuesday, April 22, 2003 in the NRC Auditorium as follows:

12:30 p.m.-1 p.m.: National Academy of Sciences Transportation Study (Open)—The Committee will hear presentations by and hold discussions with representatives of the National Academy of Sciences regarding a study the Academy will perform to analyze a broad range of matters including transportation cask testing, selection of routes to the proposed burial site, possible health impacts and public perceptions of risk.

The agenda for April 23, 2003 has been changed to reflect the cancellation of the presentations on DOE/NRC Key Technical Issue (KTI) Agreement Status. The new schedule has been modified as follows:

8:30-8:35 a.m.: Opening Statement (Open)—The Chairman will make opening remarks regarding the conduct of today's sessions.

8:35-9:30 a.m.: Update on NRC Division of Waste Management Activities (Open)—The Committee will hear presentations by and hold discussions with the Director, Division of Waste Management on recent DWM activities of interest.

9:30-10:30 a.m.: Discussion of Self-Assessment Survey Results (Open)—The Committee will discuss the results of the self-assessment survey.

10:45-12 Noon: ACNW Action Plan (Open)—The Committee members will discuss an update to the ACNW 2002-2003 Action Plan.

1-5 p.m.: Preparation of ACNW Reports (Open)—The Committee will discuss proposed ACNW reports on matters considered during this meeting.

5-5:15 p.m.: Miscellaneous (Open)—The Committee will discuss matters related to the conduct of Committee activities and matters and specific issues that were not completed during previous meetings, as time and availability of information permit.

All other items pertaining to this meeting remain the same as previously published in the Federal Register on Wednesday, April 9, 2003 (67 FR 17414).

For further information, contact Mr. Howard J. Larson, Special Assistant, ACNW, (Telephone: 301-415-6805), between 7:30 a.m. and 4:15 p.m., ET.

Dated: April 10, 2003.
Andrew L. Bates,
Advisory Committee Management Officer.

[FR Doc. 03-9437 Filed 4-16-03; 8:45 am]

BILLING CODE 7590-01-P